DEPARTMENT OF TRANSPORTATION

Federal Aviation Administration

14 CFR Part 39

[Docket No. 2000-NM-190-AD]

RIN 2120-AA64

Airworthiness Directives; McDonnell Douglas Model MD-11 Series Airplanes

AGENCY: Federal Aviation Administration, DOT.

ACTION: Notice of proposed rulemaking (NPRM).

SUMMARY: This document proposes the supersedure of an existing airworthiness directive (AD), applicable to certain McDonnell Douglas Model MD-11 series airplanes, that currently requires a one-time inspection to detect riding, chafing, or damage of the wire bundles adjacent to the disconnect panel bracket of the observer's station. That AD also requires repair or replacement of damaged wires with new or serviceable wires; installation of anti-chafing sleeving on the wire bundles, if necessary; and installation of a grommet along the entire upper aft edge of the disconnect panel bracket. This action would require an identical one-time inspection, follow-on actions, and similar corrective actions, if necessary; but the proposed installation of anti-chafing sleeving would be required for all airplanes. This action is necessary to detect riding or chafing of the wire bundles adjacent to the disconnect panel bracket assembly, which could result in a fire in the wire bundles and smoke in the cockpit. This action is intended to address the identified unsafe condition.

DATES: Comments must be received by April 6, 2001.

ADDRESSES: Submit comments in triplicate to the Federal Aviation Administration (FAA), Transport Airplane Directorate, ANM-114, Attention: Rules Docket No. 2000-NM-190-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2000-NM-190-AD” in the subject line and need not be submitted in triplicate. Comments sent via the Internet as attached electronic files must be formatted in Microsoft Word 97 for Windows or ASCII text.

The service information referenced in the proposed rule may be obtained from Boeing Commercial Aircraft Group, Long Beach Division, 3855 Lakewood Boulevard, Long Beach, California 90846, Attention: Technical Publications Business Administration, Dept. C1-L51 (2-60). This information may be examined at the FAA, Transport Airplane Directorate, 1601 Lind Avenue, SW., Renton, Washington.

FOR FURTHER INFORMATION CONTACT: Brett Portwood, Aerospace Engineer, Systems and Equipment Branch, ANM-130L, FAA, Los Angeles Aircraft Certification Office, 3960 Paramount Boulevard, Lakewood, California 90712; telephone (562) 627-5350; fax (562) 627-5210.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2000-NM-190-AD.” The postcard will be date stamped and returned to the commenter.

Availability of NPRMs

Any person may obtain a copy of this NPRM by submitting a request to the FAA, Transport Airplane Directorate, ANM-114, Attention: Rules Docket No. 2000-NM-190-AD, 1601 Lind Avenue, SW., Renton, Washington 98055-4056.

Discussion

On May 5, 1997, the FAA issued AD 97-10-12, amendment 39-10024 (62 FR 25839, May 12, 1997), applicable to certain McDonnell Douglas Model MD-11 series airplanes, to require a one-time inspection to detect riding, chafing, or damage of the wire bundles adjacent to the disconnect panel bracket of the observer's station. That AD also requires repair or replacement of damaged wires with new or serviceable wires; installation of anti-chafing sleeving on the wire bundles, if necessary; and installation of a grommet along the entire upper aft edge of the disconnect panel bracket. That action was prompted by a report indicating that the circuit breakers tripped on a Model MD-11 series airplane due to inflight arcing behind the avionics circuit breaker panel as a result of chafing of the wire bundles adjacent to the disconnect panel bracket assembly. The requirements of that AD are intended to detect and correct such chafing, which could result in a fire in the wire bundles and smoke in the cockpit.

The incident that prompted AD 97-10-12 is not considered to be related to an accident that occurred off the coast of Nova Scotia involving a McDonnell Douglas Model MD-11 series airplane. The cause of that accident is still under investigation.

Other Related Rulemaking

The FAA, in conjunction with Boeing and operators of Model MD-11 series airplanes, is continuing to review all aspects of the service history of those airplanes to identify potential unsafe conditions and to take appropriate corrective actions. This proposed AD is one of a series of actions identified during that process. The process is continuing and the FAA may consider additional rulemaking actions as further results of the review become available.

Actions Since Issuance of Previous Rule

Since the issuance of AD 97-10-12, the FAA has determined that installation of anti-chafing sleeving on all wire bundles in the subject area, regardless if the wire bundle appears to riding or chafing, is necessary. Riding or chafing of the wire bundles adjacent to the disconnect panel bracket assembly, if not detected and corrected, could result in a fire in the wire bundles and smoke in the cockpit.

Explanation of Relevant Service Information

The FAA has reviewed and approved McDonnell Douglas Alert Service Bulletin MD11-24A111, Revision 01, dated July 27, 2000. The service bulletin describes, for certain airplanes, procedures for a one-time general visual inspection to detect riding, chafing, or damage of the wire bundles adjacent to the disconnect panel bracket. The service bulletin also describes, for certain airplanes, procedures for repair of damaged wires; installation of anti-chafing sleeving on the wire bundles; and installation of a protective grommet along the edge of the disconnect panel bracket. Accomplishment of these actions specified in the service bulletin is intended to adequately address the identified unsafe condition.

Explanation of Requirements of Proposed Rule

Since an unsafe condition has been identified that is likely to exist or develop on other products of this same type design, the proposed AD would supersede AD 97-10-12 to require, for certain airplanes, accomplishment of the additional actions specified in the service bulletin described previously.

Differences Between the Proposed AD and Service Bulletin

Operators should note that the Revision Transmittal Sheet of the service bulletin incorrectly reads “Additional work is required for airplanes previously modified by Service Bulletin MD11-24-111. Additional work requirement is to be accomplished as outlined under Group 2. An additional 0.8 man-hour is required.” The FAA has consulted with the airplane manufacturer and determined that additional work is NOT required for Group 2 airplanes. The term “modified,” as described above and in Group 1 and Group 2 listing in the effectivity of the service bulletin, refers to installation of anti-chafing sleeving on the wire bundles. Therefore, the proposed AD affects McDonnell Douglas Model MD-11 series airplanes, as listed in McDonnell Douglas Alert Service Bulletin MD11-24A111, Revision 01, dated July 27, 2000; certificated in any category; except those airplanes on which anti-chafing sleeving was installed on the wire bundles per paragraph (a)(1) or (a)(2) of AD 97-10-12.

Cost Impact

There are approximately 195 Model MD-11 series airplanes of the affected design in the worldwide fleet. The FAA estimates that 60 airplanes of U.S. registry would be affected by this proposed AD.

The inspection and installation that are proposed in this AD action would take approximately 2 work hours per airplane to accomplish, at an average labor rate of $60 per work hour. The cost of required parts would be nominal. Based on these figures, the cost impact of the proposed inspection and installation of this AD on U.S. operators is estimated to $7,200, or $120 per airplane.

The cost impact figure discussed above is based on assumptions that no operator has yet accomplished any of the current or proposed requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-10024 (62 FR 25839, May 12, 1997), and by adding a new airworthiness directive (AD), to read as follows:

McDonnell Douglas: Docket 2000-NM-190-AD. Supersedes AD 97-10-12, Amendment 39-10024.

Applicability: Model MD-11 series airplanes, as listed in McDonnell Douglas Alert Service Bulletin MD11-24A111, Revision 01, dated July 27, 2000; certificated in any category; except those airplanes on which anti-chafing sleeving was installed on the wire bundles per paragraph (a)(1) or (a)(2) of AD 97-10-12.

Note 1: This AD applies to each airplane identified in the preceding applicability provision, regardless of whether it has been otherwise modified, altered, or repaired in the area subject to the requirements of this AD. For airplanes that have been modified, altered, or repaired so that the performance of the requirements of this AD is affected, the owner/operator must request approval for an alternative method of compliance in accordance with paragraph (b) of this AD. The request should include an assessment of the effect of the modification, alteration, or repair on the unsafe condition addressed by this AD; and, if the unsafe condition has not been eliminated, the request should include specific proposed actions to address it.

Compliance: Required as indicated, unless accomplished previously.

Note 2: Where there are differences between the referenced service bulletin and the AD, the AD prevails.

To detect riding or chafing of the wire bundles adjacent to the disconnect panel bracket assembly, which could result in a fire in the wire bundles and smoke in the cockpit, accomplish the following:

General Visual Inspection and Corrective Actions, If Necessary

(a) Within 6 months after the effective date of this AD, perform a general visual inspection to detect riding, chafing, or damage of the wire bundles adjacent to the disconnect panel bracket, per paragraph 3.B.2. of the Accomplishment Instructions of McDonnell Douglas Alert Service Bulletin MD11-24A111, Revision 01, dated July 27, 2000.

Note 3: For the purposes of this AD, a general visual inspection is defined as “A visual examination of an interior or exterior area, installation, or assembly to detect obvious damage, failure, or irregularity. This level of inspection is made under normally available lighting conditions such as daylight, hangar lighting, flashlight, or drop-light, and may require removal or opening of access panels or doors. Stands, ladders, or platforms may be required to gain proximity to the area being checked.”

(1) If any riding or chafing is found, and if any damage is found: Before further flight, repair damaged wires; install anti-chafing sleeving on the wire bundles; and install a protective grommet along the entire upper aft edge of the disconnect panel bracket; per Condition 1 of paragraph 3.B.2 of the Accomplishment Instructions of the service bulletin.

(2) If any riding or chafing is found, but no damage is found: Before further flight, install anti-chafing sleeving on the wire bundles, and install a protective grommet along the entire upper aft edge of the disconnect panel bracket, per Condition 2 of paragraph 3.B.2. of the Accomplishment Instructions of the service bulletin.

(3) If no riding, chafing, or damage is found: Before further flight, install anti-chafing sleeving on the wire bundles, and install a protective grommet along the entire upper aft edge of the disconnect panel bracket, per Condition 3 of paragraph 3.B.2. of the Accomplishment Instruction of the service bulletin.

Alternative Methods of Compliance

(b) An alternative method of compliance or adjustment of the compliance time that provides an acceptable level of safety may be used if approved by the Manager, Los Angeles Aircraft Certification Office (ACO), FAA. Operators shall submit their requests through an appropriate FAA Principal Maintenance Inspector, who may add comments and then send it to the Manager, Los Angeles ACO.

Note 4: Information concerning the existence of approved alternative methods of compliance with this AD, if any, may be obtained from the Los Angeles ACO.

Special Flight Permits

(c) Special flight permits may be issued in accordance with sections 21.197 and 21.199 of the Federal Aviation Regulations (14 CFR 21.197 and 21.199) to operate the airplane to a location where the requirements of this AD can be accomplished.

Issued in Renton, Washington, on February 12, 2001.
Vi L. Lipski,
Manager, Transport Airplane Directorate, Aircraft Certification Service.

[FR Doc. 01-4055 Filed 2-16-01; 8:45 am]

BILLING CODE 4910-13-P